DEPARTMENT OF DEFENSE

Office of the Secretary

[Docket ID: DoD-2013-OS-0174]

Proposed Collection; Comment Request

AGENCY: Defense Finance and Accounting Service (DFAS), DoD.

ACTION: Notice.

In compliance with Section 3506(c)(2)(A) of the Paperwork Reduction Act of 1995, the DFAS announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by October 21, 2013.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Defense Finance and Accounting Services-Columbus, 3990 East Broad Street, Columbus, OH 43218 or call Ms. Michelle Estep, (614) 701-2100, Christina Haines-Ball, (614) 701-2123 or Phyllis Wolford, (614) 701-2309.

Title; Associated Form; and OMB Number: 1099 Tax Reporting Program, 1099 MISC, OMB 0730-TBD.

Needs and Uses: The information collection requirement allows the government to gather and capture payment data for the Department of Defense (DoD) Purchase Card Program, the following payment systems: Mechanization of Contract Administration Services (MOCAS), Computerized Accounts Payable System (CAPS), Integrated Accounts Payable System (IAPS), One Pay, and from the following DoD applications: Defense Enterprise Accounting Management System (DEAMS), General Fund Enterprise Business System (GFEBS), Defense Agencies Initiative (DAI), Logistics Modernization Program (LMP), Navy Enterprise Resource Planning (NAVY ERP), Enterprise Business System (EBS). Once all data files have been loaded, the application will issue a consolidated 1099, if applicable, to a customer instead of separate 1099s from each of the payments systems and DoD Purchase Card Program.

Affected Public: Individuals and Businesses.

Annual Burden Hours: 18,704 hours.

Number of Respondents: 41,564.

Responses per Respondent: 1.

Average Burden per Response: 27 minutes.

Frequency: Annually.

SUPPLEMENTARY INFORMATION:

Summary of Information Collection

Tax identification numbers, employer identification number, and/or social security number for individuals and businesses with reportable miscellaneous income that must be submitted annually to the Internal Revenue Service.

Dated: August 14, 2013.
Aaron Siegel,
Alternate OSD Federal Register Liaison Officer, Department of Defense.

[FR Doc. 2013-20187 Filed 8-19-13; 8:45 am]

BILLING CODE 5001-06-P